DEPARTMENT OF ENERGY

Federal Energy Regulatory Commission

[Project No. 2514-029]

Notice of Waiver Period for Water Quality Certification Application; Appalachian Power Company

On September 29, 2023, Appalachian Power Company submitted to the Federal Energy Regulatory Commission (Commission) a copy of its request for a Clean Water Act section 401(a)(1) water quality certification filed with the Virginia Department of Environmental Quality (Virginia DEQ), in conjunction with the above captioned project. Pursuant to 40 CFR 121.6 and section 5.23(b) of the Commission's regulations,¹ we hereby notify Virginia DEQ of the following:

¹ 18 CFR 5.23(b).

Date of Receipt of the Certification Request: August 1, 2023.

Reasonable Period of Time to Act on the Certification Request: One year, August 1, 2024.

If Virginia DEQ fails or refuses to act on the water quality certification request on or before the above date, then the agency certifying authority is deemed waived pursuant to section 401(a)(1) of the Clean Water Act, 33 U.S.C. 1341(a)(1).

Dated: October 3, 2023.
Kimberly D. Bose,
Secretary.

[FR Doc. 2023-22699 Filed 10-13-23; 8:45 am]

BILLING CODE 6717-01-P